DEPARTMENT OF LABOR

Employment and Training Administration

[TA-W-54,400]

Allen Edmonds Shoe Corporation, Lake Church Division, Beigton, WI; Notice of Termination of Investigation

Pursuant to section 221 of the Trade Act of 1974, as amended, an investigation was initiated on March 2, 2004 in response to a petition filed on behalf of workers at Allen Edmonds Shoe Corporation, Lake Church Division, Beigton, Wisconsin.

The petition has been deemed invalid. One of the three petitioning workers was separated from the subject firm more than one year before the date of the petition. Section 223(b) of the Act specifies that no certification may apply to any worker whose last separation occurred more than one year before the date of the petition. Consequently, further investigation in this case would serve no purpose, and the investigation has been terminated.

Signed at Washington, DC, this 15th day of March 2004.
Linda G. Poole,
Certifying Officer, Division of Trade Adjustment Assistance.

[FR Doc. 04-7585 Filed 4-2-04; 8:45 am]

BILLING CODE 4510-30-P